DEPARTMENT OF DEFENSE

Office of the Secretary

[Transmittal No. 22-44]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-44 with attached Policy Justification.

Dated: June 24, 2024.
Aaron T. Siegel,
Alternate OSD Federal Register Liaison Officer, Department of Defense.

BILLING CODE 6001-FR-P

BILLING CODE 6001-FR-C

Transmittal No. 22-44

Notice of Proposed Issuance of Letter of Offer Pursuant to Section 36(b)(1) of the Arms Export Control Act, as amended

(i) Prospective Purchaser: Taipei Economic and Cultural Representative Office in the United States (TECRO)

(ii) Total Estimated Value:

Major Defense Equipment * | $ 0.0 million
Other | $665.4 million
TOTAL | $665.4 million

Funding Source: National Funds

(iii) Description and Quantity or Quantities of Articles or Services under Consideration for Purchase:

Major Defense Equipment (MDE):

None

Non-MDE:

Follow-on Contractor Logistics Support (CLS) for the Surveillance Radar Program (SRP); program management; minor modifications and upgrades; spares and repair/return parts; publications and technical documentation; and U.S. Government and contractor engineering, technical and logistics support services, studies and surveys, as well as other related elements of logistical and program support.

(iv) Military Department: Air Force (TW-D-QBA)

(v) Prior Related Cases, if any: TW-D-QAQ, TW-D-QAI, TW-D-DAH

(vi) Sales Commission, Fee, etc., Paid, Offered, or Agreed to be Paid: None known at this time

(vii) Sensitivity of Technology Contained in the Defense Article or Defense Services Proposed to be Sold: None

(viii) Date Report Delivered to Congress: September 2, 2022

* As defined in Section 47(6) of the Arms Export Control Act.

POLICY JUSTIFICATION

Taipei Economic and Cultural Representative Office in the United States—Contract Logistics Support for Surveillance Radar Program (SRP)

The Taipei Economic and Cultural Representative Office in the United States (TECRO) has requested to buy follow-on Contractor Logistics Support (CLS) for the Surveillance Radar Program (SRP); program management; minor modifications and upgrades; spares and repair/return parts; publications and technical documentation; and U.S. Government and contractor engineering, technical and logistics support services, studies and surveys, as well as other related elements of logistical and program support. The estimated total cost is $665.4 million.

This proposed sale is consistent with U.S. law and policy as expressed in Public Law 96-8.

This proposed sale serves U.S. national, economic, and security interests by supporting the recipient's continuing efforts to modernize its armed forces and to maintain a credible defensive capability. The proposed sale will help improve the security of the recipient and assist in maintaining political stability, military balance, and economic progress in the region.

The proposed sale will improve the recipient's capability to meet current and future threats by ensuring continued operability of its Surveillance Radar Program (SRP), which provides improved situational awareness and threat warning capabilities critical to regional security. The recipient will have no difficulty absorbing these services into its armed forces.

The proposed sale of this equipment and support will not alter the basic military balance in the region.

The principal contractor will be Raytheon Technologies, Andover, MA. There are no known offset agreements proposed in connection with this potential sale.

Implementation of this proposed sale may require assignment of U.S. contractors to recipient in support of the technical refresh actions during the sustainment contract. The number of contractors and duration of assignment will be determined during contract negotiations. It is anticipated that this sale will not require assignment of additional U.S. Government representatives.

There will be no adverse impact on U.S. defense readiness as a result of this proposed sale.

[FR Doc. 2024-14188 Filed 6-27-24; 8:45 am]

BILLING CODE 6001-FR-P